DEPARTMENT OF HEALTH AND HUMAN SERVICES

National Institutes of Health

National Heart, Lung, and Blood Institute; Amended Notice of Meeting

Notice is hereby given of a change in the meeting of the NHLBI Institutional Training Mechanism Review Committee, December 11, 2015, 8:00 a.m. to December 11, 2015, 5:00 p.m., National Institutes of Health, 6701 Rockledge Drive, Bethesda, MD 20892 which was published in the Federal Register on November 12, 2015, 80 FR 69975.

This meeting is being amended because the meeting will now start at 10 a.m. and will be conducted as a teleconference. The meeting is closed to the public.

Dated: November 19, 2015.
Michelle Trout,
Program Analyst, Office of Federal Advisory Committee Policy.

[FR Doc. 2015-29941 Filed 11-24-15; 8:45 am]

BILLING CODE 4140-01-P